DEPARTMENT OF LABOR

Office of the Assistant Secretary for Administration and Management

Agency Information Collection Activities; Comment Request; Nondiscrimination Compliance Information Reporting

ACTION: Notice of availability and request for comments.

SUMMARY: The Department of Labor (DOL), Office of the Assistant Secretary for Administration and Management (OASAM) is soliciting comments concerning a proposed extension for the authority to conduct the information collection request (ICR) titled, “Nondiscrimination Compliance Information Reporting.” This comment request is part of continuing Departmental efforts to reduce paperwork and respondent burden in accordance with the Paperwork Reduction Act of 1995 (PRA).

DATES: Consideration will be given to all written public comments received by October 30, 2017.

ADDRESSES: A copy of this ICR with applicable supporting documentation; including a description of the likely respondents, proposed frequency of response, and estimated total burden may be obtained free of charge by contacting Michel Smyth by telephone at 202-693-4129, TTY 202-693-8064, (these are not toll-free numbers) or by email at DOL_PRA_PUBLIC@dol.gov.

Submit written comments about, or requests for a copy of, this ICR by mail or courier to the U.S. Department of Labor-OASAM, Office of the Chief Information Officer, Attn: Information Management Compliance Management Program, Room N1301, 200 Constitution Avenue NW., Washington, DC 20210; or by email: DOL_PRA_PUBLIC@dol.gov.

FOR FURTHER INFORMATION CONTACT: Michel Smyth by telephone at 202-693-4129 (this is not a toll-free number) or by email at DOL_PRA_PUBLIC@dol.gov.

SUPPLEMENTARY INFORMATION: The DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

This ICR seeks to extend PRA authorization for the Nondiscrimination Compliance Information Reporting information collection that provides data used to help ensure a recipient of certain DOL Federal financial assistance programs does not discriminate in the administration, management, or operation of programs and activities. Information collections covered by this ICR include (1) a grant applicant providing assurance that the applicant is aware of and, as a condition of receipt of Federal financial assistance, agrees to comply with the assurance requirements; (2) a DOL funds recipient maintaining a record of EO characteristics data and a log of any EO complaints for activities under an applicable DOL funded program; (3) a person who believes a relevant EO requirement may have been violated filing a complaint with either the funds recipient or with the DOL Civil Rights Center; (4) a State periodically filing a plan outlining administrative methods the State will use to ensure funds are not used in a discriminatory manner; and (5) a DOL funds recipient posting required notices.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1225-0077.

Interested parties are encouraged to provide comments to the contact shown in the ADDRESSES section. Comments must be written to receive consideration. In order to help ensure appropriate consideration, comments should mention Control Number 1225-0077. A commenter may request oral confirmation that a submission has been received by contacting the individual listed in the FOR FURTHER INFORMATION CONTACT section of this notice. No other method will be used to acknowledge the receipt of a comment.

Comments submitted in response to this notice will be a matter of the public record for this ICR and posted on the Internet, without redaction. The DOL will not honor any request to the contrary for a comment submitted in response to this notice. The DOL encourages commenters not to include sensitive personal information (e.g., a social security number), confidential business data (e.g., a bank account number or trade secret), or other sensitive statements/information in any comments.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OASAM.

Title of Collection: Nondiscrimination Compliance Information Reporting.

OMB Control Number: 1225-0077.

Affected Public: State, Local, and Tribal Governments; Individuals or Households; and Private Sector—businesses or other for-profits and not-for-profit institutions.

Estimated Number of Respondents: 105,259.

Frequency: Varies.

Total Estimated Annual Responses: 56,324,784.

Estimated Average Time per Response: Varies.

Estimated Total Annual Burden Hours: 315,339 hours.

Total Estimated Annual Other Cost Burden: $0.

Authority: 44 U.S.C. 3506(c)(2)(A).

Dated: August 24, 2017.
Michel Smyth,
Departmental Clearance Officer.

[FR Doc. 2017-18361 Filed 8-29-17; 8:45 am]

BILLING CODE 4510-04-P